DEPARTMENT OF TRANSPORTATION

National Highway Traffic Safety Administration

[Docket No. NHTSA-2015-0116]

Agency Information Collection Request

AGENCY: National Highway Traffic Safety Administration (NHTSA), Department of Transportation (DOT).

ACTION: Notice of submission of information collection request to Office of Management and Budget (OMB).

SUMMARY: In compliance with the Paperwork Reduction Act of 1995, this notice announces that the Information Collection Request (ICR) abstracted below is being forwarded to the Office of Management and Budget (OMB) for review and comments.

DATES: Comments must be submitted on or before August 4, 2016.

ADDRESSES: Send comments to the Office of Information and Regulatory Affairs, Office of Management and Budget, 725 17th Street NW., Washington, DC 20503, Attention: NHTSA Desk Officer.

FOR FURTHER INFORMATION CONTACT: Julie Kang, Ph.D., Contracting Officer's Technical Representative Task Order Manager, Human Factors/Engineering Integration Division, Office of Vehicle Crash Avoidance and Electronic Controls Research (NSR-310), National Highway Traffic Safety Administration, 1200 New Jersey Ave. SE., Washington, DC 20590. Dr. Kang's phone number is 202-366-5677. Her email address is julie.kang@dot.gov.

SUPPLEMENTARY INFORMATION: A Federal Register Notice with a 60-day comment period soliciting comments on the following information collection was published on January 4, 2016 (81 FR 141-142).

Title: Recruitment and Debriefing of Human Subjects for Head-Up Displays and Distraction Potential.

OMB Control Number: None.

Type of Request: New Information Collection.

Abstract: The National Highway Traffic Safety Administration's (NHTSA) mission is to save lives, prevent injuries, and reduce economic losses resulting from motor vehicle crashes. Head-up display (HUD) technology presents many opportunities and challenges for mitigating driver distraction, improving driver comfort, and engaging drivers with their vehicles. On one hand, the reduction of the distance that the eyes need to travel between a focal point on the forward road and a focal point on an in-vehicle display can minimize the amount of time required to view a display relative to a traditional Head-Down Display (HDD). There is also an added benefit in that peripheral roadway information can be processed while viewing a HUD, allowing partial support of some aspects of vehicle control, like lane keeping. On the other hand, humans have difficulty simultaneously processing two visual displays overlaid on each other. Viewing HUDs while driving may therefore prevent drivers from perceiving events in the environment, particularly centrally located hazards such as a braking lead vehicle. There is a concern that if drivers perceive HUDs to be safer than HDDs that they may not regulate the length of time they spend looking at the HUD. The HUD may therefore negatively alter drivers' visual scanning behavior. The benefits and drawbacks of using a HUD in a vehicle must therefore be fully investigated and properly understood.

The proposed study will examine the distraction potential of HUD use on driving performance. The information collection involves collecting eligibility information and demographic information. The study focuses on HUD technologies that display information about the state of the vehicle (e.g., vehicle speed, navigation information) near the driver's forward field of view (e.g., projected into the lower portion of the windshield in front of the driver).

Affected Public: Voluntary study participants.

Number of Respondents: VTTI will contact approximately 100 individuals by phone and use an eligibility questionnaire to determine their eligibility for the study. It is estimated that 60 of these individuals will qualify to be enrolled into the study. The 60 individuals who will be contacted are persons who have volunteered to take part in driving studies in the past. Businesses are ineligible for the sample and will not be contacted. These 60 individuals will complete an informed consent document and a demographic questionnaire.

Number of Responses: Completion of the eligibility questions is estimated to take approximately 10 minutes per individual (100 individuals). Information Sheet is expected to take 10 minutes per individual (60 individuals). Demographic questions are expected to take 3 minutes per individual (60 individuals). Informed consent is expected to take 5 minutes per individual (60 individuals).

Total Annual Burden Hours: 45 hours for all responses from all individuals.

Frequency of Collection: This is a one-time collection to obtain the target number of 48 valid test participants.

Authority: The Paperwork Reduction Act of 1995; 44 U.S.C. Chapter 35, as amended; and 49 CFR 1.95.

Nathaniel Beuse,
Associate Administrator, Office of Vehicle Safety Research.

[FR Doc. 2016-15635 Filed 7-1-16; 8:45 am]

BILLING CODE 4910-59-P